ENVIRONMENTAL PROTECTION AGENCY

40 CFR Part 62

[EPA-R04-OAR-2010-0840(a); FRL-9298-9]

Approval and Promulgation of State Plans for Designated Facilities and Pollutants: Florida; Jefferson County, KY; Forsyth, Mecklenburg, and Buncombe Counties, NC; and SC

AGENCY: Environmental Protection Agency (EPA).

ACTION: Direct final rule.

SUMMARY: EPA is notifying the public that it has received negative declarations for Other Solid Waste Incinerator (OSWI) units from the State of Florida; Large Municipal Waste Combustor (LMWC), Small Municipal Waste Combustor (SMWC), and OSWI units from Jefferson County, Kentucky; LMWC, SMWC, and OSWI units from Forsyth County, North Carolina; LMWC, SMWC, and OSWI units from Mecklenburg County, North Carolina; LMWC, SMWC, Hospital/Medical/Infectious Waste Incinerator (HMIWI), and OSWI units from Buncombe County, North Carolina; and LMWC and HMIWI units from the State of South Carolina. These negative declarations certify that LMWC, SMWC, HMIWI, and OSWI units, as indicated above, subject to the requirements of Sections 111(d) and 129 of the Clean Air Act (CAA), do not exist in areas covered by the following air pollution control programs: Florida Department of Environmental Protection; Louisville, Kentucky, Air Pollution Control District; Forsyth County Environmental Affairs Department; Mecklenburg County Land Use and Environmental Services Agency; Western North Carolina Regional Air Quality Agency; and South Carolina Department of Health and Environmental Control.

DATES: This direct final rule is effective June 24, 2011 without further notice, unless EPA receives adverse comment by May 25, 2011. If EPA receives such comments, it will publish a timely withdrawal of the direct final rule in the Federal Register and inform the public that the rule will not take effect.

ADDRESSES: Submit your comments, identified by Docket ID Number EPA-R04-OAR-2010-0840 by one of the following methods:

1. http://www.regulations.gov: Follow the on-line instructions for submitting comments.

2. E-mail: garver.daniel@epa.gov.

3. Fax: (404) 562-9095.

4. Mail: EPA-R04 OAR-2010-0840, Daniel Garver, U.S. Environmental Protection Agency, Region 4, 61 Forsyth Street, SW., Atlanta, Georgia 30303.

5. Hand Delivery or Courier: Mr. Daniel Garver, Air Toxics Assessment and Implementation Section, Air Toxics and Monitoring Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding Federal holidays.

Instructions: Direct your comments to Docket ID Number EPA-R04-OAR-2010-0840. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Air Toxics Assessment and Implementation Section, Air Toxics and Monitoring Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Daniel Garver, Air Toxics Assessment and Implementation Section, Air Toxics and Monitoring Branch, Air, Pesticides and Toxics Management Division, U.S. Environmental Protection Agency, Region 4, 61 Forsyth Street, SW., Atlanta, Georgia 30303-8960. The telephone number is (404) 562-9839. Mr. Garver can also be reached via electronic mail at garver.daniel@epa.gov.

SUPPLEMENTARY INFORMATION:

I. Background

II. Final Action

III. Statutory and Executive Order Reviews

I. Background

Sections 111(d) and 129 of the CAA require submittal of plans to control certain pollutants (designated pollutants) at existing solid waste combustion facilities (designated facilities) whenever standards of performance have been established under section 111(d) for new sources of the same type, and EPA has established emission guidelines for such existing sources. A designated pollutant is any pollutant for which no air quality criteria have been issued, and which is not included on a list published under section 108(a) or section 112(b)(1)(A) of the CAA, but emissions of which are subject to a standard of performance for new stationary sources.

Standards of performance for new LMWC units and emission guidelines for all existing LMWC units (designated facilities) constructed on or before September 20, 1994, have been established by EPA. The emission guidelines were promulgated on December 19, 1995 (60 FR 65415), and amended most recently on May 10, 2006 (71 FR 27324). The emission guidelines are codified at 40 CFR part 60, subpart Cb.

Standards of performance for new SMWC units and emission guidelines for all existing SMWC units (designated facilities) constructed on or before August 30, 1999, have been established by EPA. The emission guidelines were promulgated on December 6, 2000 (65 FR 76384). The emission guidelines are codified at 40 CFR part 60, subpart BBBB.

Standards of performance for new HMIWI units and emission guidelines for all existing HMIWI units (designated facilities) constructed on or before June 20, 1996, have been established by EPA. The emission guidelines were promulgated on September 15, 1997 (62 FR 48348), and amended most recently on October 6, 2009 (74 FR 51366). The emission guidelines are codified at 40 CFR part 60, subpart Ce.

Standards of performance for new OSWI units and emission guidelines for all existing OSWI units (designated facilities) constructed on or before December 9, 2004, have been established by EPA. The emission guidelines were promulgated on December 16, 2005 (70 FR 74870), and amended most recently on January 22, 2007 (72 FR 2620). The emission guidelines are codified at 40 CFR part 60, subpart FFFF.

Federal regulations found in subpart B of 40 CFR part 60 establish procedures to be followed and requirements to be met in the development and submission of state plans for controlling designated pollutants at designated facilities. Federal regulations found in subpart A of 40 CFR part 62 provide the procedural framework for the submission of these plans. When designated facilities are located under the jurisdiction of a state, or local agency, the state or local agency must then develop and submit a plan for their respective jurisdiction for the control of the designated pollutants. However, the federal regulations found at 40 CFR 62.06 provide that if there are no existing sources of the designated pollutants within the state or local agency jurisdiction, the state or local agency may submit a letter of certification to that effect, or negative declaration, in lieu of a plan. The negative declaration exempts the state or local agency from the requirements to submit a plan for that designated pollutant.

II. Final Action

EPA has received several negative declaration letters for Sections 111(d) and 129 source categories from state and local air pollution agencies. The Florida Department of Environmental Protection has determined that there are no existing OSWI units in its jurisdiction. The Louisville, Kentucky, Air Pollution Control District has determined that there are no existing LMWC, SMWC or OSWI units within its jurisdiction, Jefferson County, Kentucky. The South Carolina Department of Health and Environmental Control has determined that there are no existing LMWC or HMIWI units within its jurisdiction. The Forsyth County Environmental Affairs Department has determined that there are no existing LMWC, SMWC or OSWI units within its jurisdiction, Forsyth County, North Carolina. The Mecklenburg County Land Use and Environmental Services Agency has determined that there are no existing LMWC, SMWC or OSWI units within its jurisdiction, Mecklenburg County, North Carolina. The Western North Carolina Regional Air Quality Agency has determined that there are no existing LMWC, SMWC, HMIWI or OSWI units within its jurisdiction, Buncombe County, North Carolina. Pursuant to 40 CFR part 60, EPA is providing the public with notice of these negative declarations. Notice of these negative declarations will appear at 40 CFR part 62.

III. Statutory and Executive Order Reviews

Under the CAA, the Administrator is required to approve a 111(d)/129 plan submission that complies with the provisions of the CAA and applicable Federal regulations. 42 U.S.C. 7410(k); 40 CFR 52.02(a). Thus, in reviewing 111(d)/129 plan submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the 111(d)/129 plan is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 24, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2)).

List of Subjects in 40 CFR Part 62

Environmental protection, Administrative practice and procedure, Air pollution control, Intergovernmental relations, Reporting and recordkeeping requirements.

Dated: January 13, 2011.
A. Stanley Meiburg,
Acting Regional Administrator, Region 4.

40 CFR part 62 is amended as follows:

PART 62—[AMENDED]

1. The authority citation for part 62 continues to read as follows:

Authority: 42 U.S.C. 7401 et seq.

Subpart K—Florida

2. Add a new undesignated center heading to subpart K and a new § 62.2400 to read as follows:

Air Emissions From Existing Other Solid Waste Incinerators (OSWI)—Section 111(d)/129 Plan

§ 62.2400 Identification of plan—negative declaration.

Letter from Florida Department of Environmental Protection submitted on January 18, 2007, certifying that there are no Other Solid Waste Incinerator units subject to 40 CFR part 60, subpart FFFF in its jurisdiction.

Subpart S—Kentucky

3. Section 62.4370 is amended by designating the existing text as paragraph (a) and adding by paragraph (b) to read as follows:

§ 62.4370 Identification of plan—negative declaration.

* * * * *

(b) Letter from Louisville, Kentucky, Air Pollution Control District submitted on February 11, 2010, certifying that there are no Large Municipal Waste Combustor units subject to 40 CFR part 60, subpart Cb in its jurisdiction.

4. Section 62.4371 is amended by designating the existing text as paragraph (a) and by adding paragraph (b) to read as follows:

§ 62.4371 Identification of plan—negative declaration.

* * * * *

(b) Letter from Louisville, Kentucky, Air Pollution Control District submitted on February 11, 2010, certifying that there are no Small Municipal Waste Combustion units subject to 40 CFR part 60, subpart BBBB in its jurisdiction.

5. Add a new undesignated center heading to subpart S and a new § 62.4375 to read as follows:

Air Emissions From Existing Other Solid Waste Incinerators (OSWI)—Section 111(d)/129 Plan

§ 62.4375 Identification of plan—negative declaration.

Letter from Louisville, Kentucky, Air Pollution Control District submitted on February 11, 2010, certifying that there are no Other Solid Waste Incinerator units subject to 40 CFR part 60, subpart FFFF in its jurisdiction.

Subpart II—North Carolina

6. Section 62.8356 is amended by designating the existing text as paragraph (a) and by adding paragraph (b) to read as follows:

§ 62.8356 Identification of plan—negative declaration.

* * * * *

(b) Letter from Western North Carolina Regional Air Quality Agency submitted on October 5, 2007, certifying that there are no Hospital/Medical/Infectious Waste Incinerator units subject to 40 CFR part 60, subpart Ce in its jurisdiction.

7. Add a new undesignated center heading to subpart II and a new § 62.8357 to read as follows:

Air Emissions From Existing Large Municipal Waste Combustors (LMWC)—Section 111(d)/129 Plan

§ 62.8357 Identification of plan—negative declaration.

Letters from Forsyth County Environmental Affairs Department, Mecklenburg County Land Use and Environmental Services Agency, and Western North Carolina Regional Air Quality Agency submitted on February 17, 2010, August 19, 2009, and October 5, 2007, respectively, certifying that there are no Large Municipal Waste Combustor units subject to 40 CFR part 60, subpart Cb in their respective jurisdictions.

8. Add a new undesignated center heading to subpart II and a new § 62.8359 to read as follows:

Air Emissions From Existing Small Municipal Waste Combustors (SMWC)—Section 111(d)/129 Plan

§ 62.8359 Identification of plan—negative declaration.

Letters from Forsyth County Environmental Affairs Department, Mecklenburg County Land Use and Environmental Services Agency, and Western North Carolina Regional Air Quality Agency submitted on February 17, 2010, January 22, 2003, and October 5, 2007, respectively, certifying that there are no Small Municipal Waste Combustor units subject to 40 CFR part 60, subpart BBBB in their respective jurisdictions.

9. Add a new undesignated center heading to subpart II and a new § 62.8361 to read as follows:

Air Emissions From Existing Other Solid Waste Incinerators (OSWI)—Section 111(d)/129 Plan

§ 62.8361 Identification of plan—negative declaration.

Letters from Forsyth County Environmental Affairs Department, Mecklenburg County Land Use and Environmental Services Agency, and Western North Carolina Regional Air Quality Agency submitted on February 17, 2010, August 19, 2009, and October 5, 2007, respectively, certifying that there are no Other Solid Waste Incinerator units subject to 40 CFR part 60, subpart FFFF in their respective jurisdictions.

Subpart PP—South Carolina

10. Revise § 62.10150 to read as follows:

§ 62.10150 Identification of plan—negative declaration.

Letter from South Carolina Department of Health and Environmental Control submitted on July 8, 2010, certifying that there are no Large Municipal Waste Combustor units subject to 40 CFR part 60, subpart Cb in its jurisdiction.

11. Add a new undesignated center heading to subpart PP and a new § 62.10200 to read as follows:

Air Emissions From Existing Hospital/Medical/Infectious Waste Incinerators (HMIWI)—Section 111(d)/129 Plan

§ 62.10200 Identification of plan—negative declaration.

Letter from South Carolina Department of Health and Environmental Control submitted on December 14, 2009, certifying that there are no Hospital/Medical/Infectious Waste Incinerator units subject to 40 CFR part 60, subpart Ce in its jurisdiction.

[FR Doc. 2011-9844 Filed 4-22-11; 8:45 am]

BILLING CODE 6560-50-P